DEPARTMENT OF COMMERCE

National Oceanic and Atmospheric Administration

RIN 0648-XA873

Endangered Species; File No. 15566

AGENCY: National Marine Fisheries Service (NMFS), National Oceanic and Atmospheric Administration (NOAA), Commerce.

ACTION: Notice; receipt of application for a permit modification.

SUMMARY: Notice is hereby given that South Carolina Department of Natural Resources, Marine Resources Division, Charleston, SC 29422-2559 [Responsible Party: Mike Arendt], has requested a modification to scientific research Permit No. 15566.

DATES: Written, telefaxed, or email comments must be received on or before January 19, 2012.

ADDRESSES: The modification request and related documents are available for review by selecting “Records Open for Public Comment” from the Features box on the Applications and Permits for Protected Species (APPS) home page, https://apps.nmfs.noaa.gov/, and then selecting File No. 15566 from the list of available applications. These documents are also available upon written request or by appointment in the following offices:

Permits and Conservation Division, Office of Protected Resources, NMFS, 1315 East-West Highway, Room 13705, Silver Spring, MD 20910; phone (301) 427-8401; fax (301) 713-0376; and

Southeast Region, NMFS, 263 13th Ave. South, St. Petersburg, FL 33701; phone (727) 824-5312; fax (727) 824-5309.

Written comments on this application should be submitted to the Chief, Permits and Conservation Division:

• By email to NMFS.Pr1Comments@noaa.gov (include the File No. in the subject line of the email),

• By facsimile to (301) 713-0376, or

• At the above address.

Those individuals requesting a public hearing should submit a written request to the Chief, Permits and Conservation Division at the address listed above. The request should set forth the specific reasons why a hearing on this application would be appropriate.

FOR FURTHER INFORMATION CONTACT: Kristy Beard or Amy Hapeman, (301) 427-8401.

SUPPLEMENTARY INFORMATION: The subject modification to Permit No. 15566, issued on April 8, 2011 (76 FR 22877), is requested under the authority of the Endangered Species Act of 1973, as amended (16 U.S.C. 1531 et seq.) and the regulations governing the taking, importing, and exporting of endangered and threatened species (50 CFR 222-226).

Permit No. 15566 authorizes capture by trawl up to 345 loggerhead (Caretta caretta), 29 Kemp's ridley (Lepidochelys kempii), 9 green (Chelonia mydas), 1 leatherback (Dermochelys coriacea), and 1 hawksbill (Eretmochelys imbricata) sea turtle in order to assess temporal change in catch rates, size distributions, sex and genetic ratios, and health of sea turtles. Captures occur annually in coastal waters between Winyah Bay, SC and St. Augustine, FL. Turtles may be handled, blood sampled, measured, flipper and passive integrated transponder (PIT) tagged, photographed, and released. A subsample of animals are subject to barnacle, keratin, fecal, and tissue sampling, cloacal swabs, and attachment of satellite and/or VHF transmitters. Up to five loggerhead, one Kemp's ridley, one green, one leatherback, and one hawksbill sea turtle could be accidentally killed over the life of the permit. The permit holder requests authorization to increase the number of authorized Kemp's ridleys from 29 to 79 turtles annually. The 50 additional sea turtles would be captured, handled, blood sampled, measured, flipper and PIT tagged, photographed, and released. No other changes would be made to the permit. The purpose of the proposed research remains the same.

Dated: December 14, 2011.
P. Michael Payne,
Chief, Permits and Conservation Division, Office of Protected Resources, National Marine Fisheries Service.

[FR Doc. 2011-32543 Filed 12-19-11; 8:45 am]

BILLING CODE 3510-22-P